DEPARTMENT OF HEALTH AND HUMAN SERVICES

Food and Drug Administration

[Docket No. FDA-2017-N-1393]

Government-Owned Inventions; Availability for Licensing

AGENCY: Food and Drug Administration, HHS.

ACTION: Notice.

SUMMARY: The invention listed in this document is owned by an agency of the U.S. Government and is available for licensing to achieve expeditious commercialization of results of federally funded research and development.

FOR FURTHER INFORMATION CONTACT: Licensing information and copies of the patent applications listed in this document may be obtained by writing to the indicated licensing contact at the Food and Drug Administration (FDA) Technology Transfer Program, 10903 New Hampshire Ave., Bldg. 1, Rm. 4213, Silver Spring, MD 20993, telephone: 240-402-2561, FAX: 301-847-3539. A signed Confidential Disclosure Agreement will be required to receive copies of the patent applications.

SUPPLEMENTARY INFORMATION: Technology descriptions follow.

Title of Abstract: Solid-Phase Purification of Synthetic DNA Sequences.

Description of Technology: Scientists at FDA have developed a high-throughput method for purifying full-length phosphorothioate and native DNA sequences. This method comprises a modified silica gel that enables capture of DNA sequences functionalized with a novel linker specifically designed for exclusive capture of full-length sequences. This technology has been shown to generate DNA sequences of high purity without the need of expensive equipment and associated accessories. This discovery may improve the availability of pure DNA sequences for clinical and/or synthetic biology applications.

Potential Commercial Applications:

• A high-throughput purification technique for producing small and large quantities of highly pure DNA sequences.

Competitive Advantages:

• Cost effective.

• High-throughput capabilities.

• Time saving.

• High purity.

Development Stage:

• In vitro data available.

Inventors:

Serge L. Beaucage.

Andrzej Grajkowski.

Publication: Grajkowski, A., J. Cieslak, and S.L. Beaucage, “Solid-Phase Purification of Synthetic DNA Sequences,” The Journal of Organic Chemistry, 81 (15): pp. 6165-6175, 2016; DOI: 10.1021/acs.joc.6b01020.

Intellectual Property: U.S. Provisional Patent Application No. 62/356,214, filed June 29, 2016, FDA Reference No. E-2016-005.

Licensing and Collaborative Research Opportunity:

Parties interested in licensing this technology should contact Charlene Maddox at Charlene.Maddox@fda.hhs.gov or FDAInventionlicensing@fda.hhs.gov.

Dated: April 19, 2017.
Anna K. Abram,
Deputy Commissioner for Policy, Planning, Legislation, and Analysis.

[FR Doc. 2017-08596 Filed 4-27-17; 8:45 am]

BILLING CODE 4164-01-P